DEPARTMENT OF DEFENSE

Department of the Navy

Record of Decision for Proposed Future Military Operational Increases and Implementation of Associated Comprehensive Land Use Management Plan and Integrated Natural Resources Management Plan, China Lake, CA

AGENCY: Department of the Navy, DOD.

ACTION: Notice of record of decision.

SUMMARY: The Department of the Navy announces its decision to support future military operational increases and implementation of the associated Comprehensive Land Use Management Plan (CLUMP) and Integrated Natural Resources Management Plan (INRMP) at Naval Air Weapons Station (NAWS) China Lake, CA.

FOR FURTHER INFORMATION CONTACT: Commander, NAWS-Code N45NCW, 429 East Bowen Road, MS 4014, China Lake, CA 93555-6108 (Attn: Mr. John O'Gara); phone (760) 939-3213; facsimile (760) 939-2980; or E-Mail: john.ogara@navy.mil.

SUPPLEMENTARY INFORMATION: Pursuant to Section 102(2)(c) of the National Environmental Policy Act (NEPA) of 1969 (42 U.S.C. § 4321 et seq.); Council on Environmental Quality (CEQ) regulations (40 CFR Parts 1500-1508); and Department of the Navy regulations (32 CFR 775), the Department of the Navy (Navy) announces its decision to support future military operational increases and implementation of the associated CLUMP and INRMP at NAWS China Lake, CA. This will be accomplished as set out in the Moderate Expansion Alternative as described in the Final Environmental Impact Statement (EIS). This decision will enable the Navy to meet its established mission to support state-of-the-art air warfare weapons systems testing and evaluation and the operational readiness of the military services on both existing facilities and infrastructure and safe, operationally realistic, and thoroughly instrumented land ranges.

Background and Issues: As the Navy's full-spectrum Research, Development, Test, and Evaluation (RDT&E) center for weapons systems associated with air warfare, aircraft weapons integration, missiles and missile subsystems, and assigned airborne electronic warfare systems, NAWS China Lake is host to the Naval Air Warfare Center Weapons Division (NAWCWD) and other DOD activities. To support NAWCWD's RDT&E mission and military readiness training, NAWS China Lake schedules, controls, and maintains 1.1 million acres of fully instrumented land ranges.

Continued use of these land ranges requires compliance with the California Desert Protection Act of 1994 and the Sikes Act, as amended in 1997. Implementation of the CLUMP and the INRMP will enable NAWS China Lake to beneficially manage environmental, land, and cultural resources such that there is no net loss in the capability of the installation to support its existing military mission. These plans will also facilitate environmentally sound resource management decisions when responding to planned increases in and emerging military readiness needs.

Alternatives Considered: A screening process, based upon criteria set out in the Final EIS, was conducted to identify a reasonable range of alternatives that would satisfy the Navy's purpose and need. Two operational alternatives and the no action alternative were analyzed in detail in the Final EIS.

The preferred alternative is the Moderate Expansion Alternative, which provides NAWS China Lake with the greatest flexibility to accommodate evolving Navy and DOD Test and Evaluation (T&E) and operational readiness needs. This alternative involves phasing future military operational increases over a five-year period, according to operational needs. These operational increases would include: a 25-percent increase over the type and tempo of current range flight operations, airfield flight operations, range ground operations; and, an increase in range supersonic flights from 36 to 100 operations per year. An increase in ground troop training exercises from 22 to 42 events per year is also proposed. Nonmilitary activities would continue according to current patterns of use. The implementation of the CLUMP and INRMP would provide for the sound management of land use and environmental resources to accommodate future moderate operational increases.

The Limited Expansion Alternative also provides for a five-year phase-in of increased military operations at NAWS China Lake, in accordance with operational needs. However, military operational increases would be less than those proposed under the Moderate Expansion Alternative, and would include: a 15-percent increase over the type and tempo of current range flight operations, airfield flight operations, range ground operations; and, an increase in range supersonic flights from 36 to 100 operations per year. An increase in ground troop training exercises from 22 to 41 events per year is also proposed. Nonmilitary activities would continue according to current patterns of use. The implementation of the CLUMP and INRMP would provide for the sound management of land use and environmental resources to accommodate future limited operational increases.

Under the No Action Alternative, existing operating conditions at NAWS China Lake would be maintained at current levels as set forth in the Final EIS. Nonmilitary activities would continue according to current patterns of use. As required by law, the CLUMP and INRMP would be implemented under this alternative to provide for the management of land use and environmental resources to accommodate the type, tempo, and location of military T&E and training operations currently conducted at NAWS China Lake. The No Action Alternative is the environmentally preferred alternative because it involves the least amount of change to the physical environment.

Environmental Impacts: Potential environmental impacts associated with the three alternatives were analyzed in the Final EIS. Because on-going and future operational increases will continue to occur in range areas that have been previously disturbed (including those areas that may have been underutilized in the recent past), and the objectives of the CLUMP and INRMP are to institute land use and environmental management practices that minimize the potential for adverse effects, no significant environmental impacts were identified to any of the resource areas. Consequently, no mitigation measures are proposed.

The CLUMP will be implemented in accordance with the 1994 Memorandum of Agreement between the Secretary of the Interior and the Secretary of the Navy regarding the management of withdrawn lands at NAWS China Lake. Implementation of the CLUMP and INRMP will result in beneficial impacts at NAWS by standardizing baseline data for land use patterns and environmental resources using electronic mapping technology (Geographic Information Systems), and formalizing and integrating the station's environmental review process with facility, infrastructure, and operational planning processes. CLUMP implementation will facilitate the environmental reviews of on-going and proposed military test and training activities, potential facilities construction, operation and maintenance efforts and related support activities, and nonmilitary uses. Information regarding other Federal regulatory processes associated with this action is presented below.

The Navy initiated formal consultation under Section 7 of the Endangered Species Act with the U.S. Fish and Wildlife Service (USFWS) in 1990, 1995, and 1997, respectively, for each of the three protected wildlife species occurring at China Lake: the Inyo California towhee, the desert tortoise, and the Mojave tui chub. The USFWS issued Biological Opinions (BOs) for the three species that cover a range of actions from habitat maintenance and enhancement, to a programmatic BO for the desert tortoise encompassing established military operations conducted in tortoise habitat on NAWS. The Navy has determined that the preferred alternative is consistent with the terms and conditions of the existing BOs and would not adversely affect Federally listed species. USFWS has confirmed this conclusion through informal consultation with NAWS throughout the NEPA process.

NAWS China Lake employs a phased approach to compliance with Section 106 of the National Historic Preservation Act (NHPA) (16 U.S.C. 470). The California State Historic Preservation Officer (SHPO) has concurred that the NAWS approach is consistent with NHPA regulations. In addition, a draft Programmatic Agreement (PA) has been developed to facilitate the protection of cultural resources. This PA will be finalized through formal consultation in accordance with comments received from the California SHPO and area Tribes. NAWS China Lake will continue to implement appropriate management plans and procedures to ensure compliance with the NHPA, and to consult and coordinate (as appropriate) with the California SHPO and area Tribes.

Response To Comments Received Regarding the Final EIS: The Final EIS was distributed to government agencies and the public on March 05, 2004, for a 30-day public review period. During this period only two comment letters were received, both from private landowners in the vicinity of NAWS China Lake. The comments identified concerns related to air quality, range safety, potential seismic events, off-station land uses, access to station property, airspace management, and aircraft operations. Some of the comments are not related to the proposed action or the Final EIS and would be more appropriately directed toward local civil authorities or the NAWS China Lake Public Affairs Office. No new substantive issues concerning the proposed action were raised in the comments received. All of the issues raised in comment letters were thoroughly analyzed and discussed in the Final EIS.

Conclusions: After carefully considering the purpose and need for the proposed action, the analyses contained in the Final EIS, and the comments received on the Draft and Final EIS from Federal, state, and local agencies, non-governmental organizations, and individual members of the public, I have determined that the preferred alternative, the Moderate Expansion Alternative, will best meet the needs of the Navy.

Implementation of the Moderate Expansion Alternative will enhance the existing assets and capabilities of NAWS China Lake; provide for meeting current and evolving Navy and DOD operational, testing, and training requirements; and achieve Navy compliance with the California Desert Protection Act of 1994 and the Sikes Act, as amended in 1997.

Dated: May 19, 2004.
Donald R. Schregardus,
Deputy Assistant Secretary of the Navy (Environment).

[FR Doc. 04-11906 Filed 5-25-04; 8:45 am]

BILLING CODE 3810-FF-P